OVERSEAS PRIVATE INVESTMENT CORPORATION

Sunshine Act; Public Hearing

March 17, 2010.

OPIC's Sunshine Act notice of its Annual Public Hearing meeting was published in the Federal Register (Volume 75, Number 38, Pages 9004 and 9005) on February 26, 2010. No requests were received to provide testimony or submit written statements for the record; therefore, OPIC's annual public hearing scheduled for 2 p.m. on March 17, 2010 has been cancelled.

Contact Person for Information: Information on the hearing cancellation may be obtained from Connie M. Downs at (202) 336-8438, via facsimile at (202) 218-0136, or via e-mail at Connie.Downs@opic.gov.

Dated: March 10, 2010.
Connie M. Downs,
OPIC Corporate Secretary.

[FR Doc. 2010-5665 Filed 3-12-10; 11:15 am]

BILLING CODE 3210-01-P